DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is revising the entry of a person that has been placed on OFAC's Specially Designated Nationals and Blocked Persons (SDN) List. All property and interests in property subject to U.S. jurisdiction of this person remain blocked, and U.S. persons are generally prohibited from engaging in transactions with them. Additionally, OFAC is removing one entry from the SDN List.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://ofac.treasury.gov).

Notice of OFAC Action(s)

On May 24, 2024, OFAC removed the following entry from the SDN List to resolve duplicate entries of the same aircraft on the SDN List.

Aircraft

1. EP-GOM; Aircraft Construction Number (also called L/N or S/N or F/N) 8401; Aircraft Manufacture Date 1992; Aircraft Model IL76-TD; Aircraft Operator YAS AIR; Aircraft Manufacturer's Serial Number (MSN) 1023409321 (aircraft) [SDGT] (Linked To: POUYA AIR).

On May 24, 2024, published the following revised information for the entry on the SDN List for the following person blocked under the relevant sanctions authority listed below.

BILLING CODE 4810-AL-P

Dated: May 24, 2024.
Bradley T. Smith,
Director, Office of Foreign Assets Control, U.S. Department of the Treasury.

[FR Doc. 2024-12159 Filed 6-3-24; 8:45 am]

BILLING CODE 4810-AL-C